DEPARTMENT OF TRANSPORTATION

National Highway Traffic Safety Administration

[NHTSA Docket No. NHTSA-2006-26249]

Brain Injury Symposium

AGENCY: National Highway Traffic Safety Administration (NHTSA), DOT.

ACTION: Meeting notice.

SUMMARY: The National Highway Traffic Safety Administration (NHTSA) announces a two day Brain Injury Symposium to be held in Washington, DC. This notice announces the date, time and location of the Symposium, which will be open to the public with advanced registration on a space-available basis.

DATES: February 26 and 27, 2007 starting at 9 a.m. on Monday, February 26th and ending at 5 p.m. on Tuesday, February 27th, 2007.

ADDRESSES: The meeting will be held at: L'Enfant Plaza Hotel, 480 L'Enfant Plaza, SW., Washington, DC 20024.

FOR FURTHER INFORMATION CONTACT: Erik Takhounts, Ph.D., Office of Applied Vehicle Safety Research, Human Injury Research Division, National Highway Traffic Safety Administration, 400 Seventh Street, SW., Washington, DC 20590. Telephone number (202) 366-4737; E-mail Erik.Takhounts@dot.gov.

SUPPLEMENTARY INFORMATION: With head and brain injury still a major factor in frontal crashes, NHTSA has identified a need to determine specific injury mechanisms and create more predictive injury criteria. The chief purpose of this Symposium is to hear the opinions, on an individual basis, of experts on short-, mid-, and long-term research efforts that may be relevant to the establishment of advanced brain/head injury criteria. Distinguished researchers engaged in the area of brain injury biomechanics will make presentations on their latest research efforts during the first day of the Symposium. The second day will be devoted to roundtable discussions of specific subjects such as injury mechanisms, crash dummy development, and future research including computer modeling. NHTSA will post a summary of the information presented during the Symposium on its website and place all relevant materials in the docket. It is anticipated that representatives of industry, academia, and the government from North America, Europe, and Asia will participate in the Symposium.

The meeting will be open to the public with advanced registration on a space-available basis. Individuals wishing to register must provide their name, affiliation, phone number and e-mail address to Erik Takhounts (contact information identified above) no later than December 1st, 2006. To the extent time permits, the public may make statements during the meeting, and file written statements with NHTSA for its consideration. The meeting will be held at a site accessible to individuals with disabilities. Individuals who require accommodations such as sign language interpreters should contact Erik Takhounts by February 1, 2007.

An agenda will be posted on NHTSA's Web site at: http://www.nhtsa.dot.gov and placed in the meeting docket at a later date. Meeting minutes and other information received by NHTSA at the Symposium also will be available on NHTSA's Web site and in the meeting docket.

Issued on: November 2, 2006.
Joseph N. Kanianthra,
Associate Administrator for Vehicle Safety Research.

[FR Doc. E6-18919 Filed 11-8-06; 8:45 am]

BILLING CODE 4910-59-P